DEPARTMENT OF COMMERCE

National Oceanic and Atmospheric Administration

[I.D. 042400D]

Pelagic Longline Vessel Monitoring System Checklist; Proposed Information Collection; Request for Comments

AGENCY: National Oceanic and Atmospheric Administration

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 26, 2000.

ADDRESSES: Direct all written comments to Linda Engelmeier, Departmental Forms Clearance Officer, Department of Commerce, Room 5027, 14th and Constitution Avenue NW, Washington DC 20230 (or via Internet at lengelme@doc.gov).

FOR FURTHER INFORMATION CONTACT: Requests for additional information or copies of the information collection instrument(s) and instructions should be directed to Christopher Rogers, Highly Migratory Species Management Division (F/SF1), Office of Sustainable Fisheries, NMFS, 1315 East-West Highway, Silver Spring, MD 20910; 301-713-2347.

SUPPLEMENTARY INFORMATION:

I. Abstract

Under the provisions of the Magnuson-Stevens Fishery Conservation and Management Act (16 U.S.C. 1801 et seq.), the National Oceanic and Atmospheric Administration (NOAA) is responsible for management of the nation's marine fisheries. In addition, NOAA must comply with the United States' obligations under the Atlantic Tunas Convention Act of 1975 (16 U.S.C. 971 et seq.) to implement the recommendations of the International Commission for the Conservation of Atlantic Tunas (ICCAT). ICCAT adopted a recommendation that each member country institute, as a 3-year pilot program, a satellite-based vessel monitoring system (VMS) on certain vessels fishing for ICCAT-regulated species on the high seas outside the Exclusive Economic Zone of any coastal state. NOAA's National Marine Fisheries Service (NMFS) has obtained Office of Management and Budget approval to collect automated VMS position reports from pelagic longline vessels as of September 1, 2000.

NMFS proposes to add an additional requirement for the submission of a certification and checklist regarding installation of the VMS equipment. These would have to be returned to NMFS prior to the effective date of the VMS regulation. Given that the VMS hardware and satellite communications services are provided by third-parties as approved by NMFS, there is a need for NMFS to collect information regarding the individual vessel's installation in order to ensure that automated position reports will be received.

II. Method of Collection

Respondents would submit a signed copy of the checklist, certifying that they followed the applicable procedures. They would also provide information on the equipment used and the service provider selected.

III. Data

KOMB Number: 0648-0372.

KForm Number: None.

Type of Review: Regular submission.

Affected Public: Business and other for-profit institutions, individuals.

Estimated Number of Respondents: 298.

Estimated Time Per Response: 5 minutes (the burden for actual installation of the VMS equipment was included in previous clearance requests, so this response time is solely for completing the checklist form and submitting it).

Estimated Total Annual Burden Hours: 25.

Estimated Total Annual Cost to Public: $100.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2000.
Linda Engelmeier,
Departmental Forms Clearance Officer, Office of the Chief Information Officer.

[FR Doc. 00-10515 Filed 4-26-00; 8:45 am]

BILLING CODE 3510-22-F